DEPARTMENT OF EDUCATION

Higher Education Disaster Relief

AGENCY: Office of Postsecondary Education, Department of Education.

ACTION: Notice reopening the Higher Education Disaster Relief fiscal year (FY) 2009 competition.

Catalog of Federal Domestic Assistance (CFDA) Number: 84.938R.

SUMMARY: On January 16, 2009, we published in the Federal Register (74 FR 3005) a notice inviting applications for the new awards for fiscal year (FY) 2009 under the Higher Education Disaster Relief Program. On January 26, 2009, we published in the Federal Register (74 FR 4417) a notice correcting the date for transmittal of pre-applications and the date for transmittal of applications. The January 26, 2009 notice established a new February 4, 2009 deadline date for eligible applicants to submit a pre-application for this funding. The January 26, 2009 notice also provided that only applicants who timely submitted a pre-application and received an e-mail from the Department with the applicant's calculated allotment for an award were eligible to submit an application by the new March 19, 2009 application deadline.

To afford an opportunity to receive funding to those eligible applicants that submitted their pre-applications on time, we are reopening the Higher Education Disaster Relief FY 2009 competition only for eligible applicants who timely submitted a pre-application and received an e-mail from the Department with the applicant's calculated allotment for an award.

Note: The January 16, 2009 Federal Register notice is available at: http://www.ed.gov/legislation/FedRegister/announcements/2009-1/011609c.html. The January 26, 2009 Federal Register correction notice is available at: http://www.ed.gov/legislation/FedRegister/announcements/2009-1/012609d.html.

Applicants that successfully submitted their complete applications on or before the deadline date of March 19, 2009 are not required to resubmit their applications. All other eligible applicants who timely submitted a pre-application and received an e-mail from the Department with the applicant's calculated allotment for an award must submit their applications by mail as provided in this notice.

All information in the January 16, 2009 notice, as amended by the January 26, 2009 correction notice, remains the same, except for the following updates.

DATES: Deadline for Transmittal of Applications: April 8, 2009.

Note: Applications for grants under the Higher Education Disaster Relief program must be mailed on or before the application deadline date, for next business-day delivery, to the Department at the following address:

U.S. Department of Education, Application Control Center, Attention: (CFDA Number 84.938R), 550 12th Street, SW., Washington, DC 20202-4260.

You must show proof of mailing consisting of one of the following:

(1) A legibly dated U.S. Postal Service postmark with evidence demonstrating that next business-day delivery was scheduled.

(2) A legible mail receipt with the date of mailing stamped by the U.S. Postal Service with evidence demonstrating that next business-day delivery was scheduled.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

Note for Mail of Paper Applications: When you mail your application to the Department—

(1) You must indicate on the envelope and—if not provided by the Department—in Item 11 of the SF 424, the CFDA Number, including suffix letter, if any, of the competition under which you are submitting your application; and

(2) The Application Control Center will mail to you a notification of receipt of your grant application. If you do not receive this notification within 15 business days from the application deadline date, you should call the U.S. Department of Education Application Control Center at (202) 245-6288.

FOR FURTHER INFORMATION CONTACT: Ms. Cassandra Courtney, Fund for the Improvement of Postsecondary Education, U.S. Department of Education, 1990 K Street, NW., 6th Floor, Washington, DC 20006-8544. Telephone: (202) 502-7506 or by e-mail: HEDR@ed.gov or Cassandra.Courtney@ed.gov.

If you use a telecommunications device for the deaf (TDD), you may call the Federal Relay Service (FRS) at 1-800-877-8339.

Accessible Format: Individuals with disabilities can obtain this document and a copy of the application package in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 1138-1138d.

Delegation of Authority: The Secretary of Education has delegated authority to Daniel T. Madzelan, Director, Forecasting and Policy Analysis for the Office of Postsecondary Education to perform the function of the Assistant Secretary for Postsecondary Education.

Dated: March 31, 1009.
Daniel T. Madzelan,
Director, Forecasting and Policy Analysis.

[FR Doc. E9-7701 Filed 4-3-09; 8:45 am]

BILLING CODE 4000-01-P